DEPARTMENT OF JUSTICE

Notice of Lodging of Proposed Consent Decree Modification Under the Comprehensive Environmental Response, Compensation, and Liability Act

On January 16, 2021, the Department of Justice lodged a proposed consent decree modification with the United States District Court for the District of New Jersey in the lawsuit entitled United States v. The Sherwin-Williams Company, Civil Action No. 1:19-cv-01907-JHR-KMW, an action brought under the Comprehensive Environmental Response, Compensation, and Liability Act (“CERCLA”), 42 U.S.C. 9601 et seq. On April 16, 2019, the Court entered a consent decree in this action which resolved the United States' claim against The Sherwin-Williams Company (“Sherwin-Williams”) for certain past costs incurred by the United States relating to the Sherwin-Williams/Hilliards Creek Site, Route 561 Dump Site, and United States Avenue Burn Site (the “Sites”). The Sites are located in Gibbsboro and Voorhees, New Jersey.

The consent decree entered in this action also provides for Sherwin-Williams' performance of the soils and sediments operable unit remedy selected by the U.S. Environmental Protection Agency (“EPA”) for the United States Avenue Burn Site. In addition, the consent decree provides that, after EPA selects a remedy in a Record of Decision (“ROD”) for an additional operable unit at the Sites, the decree may be modified to add Sherwin-Williams' performance of the additional operable unit remedy to the work required under the decree. On August 4, 2020, EPA issued a ROD selecting the remedy for the soils, sediments, and light non-aqueous phase liquid (“LNAPL”) operable unit at the Sherwin-Williams/Hilliards Creek Site (“SW/HC OU2”). The selected remedy includes contaminated soil and sediment removal, cap installation, and bioremediation work. The SW/HC OU2 ROD is accessible at https://semspub.epa.gov/work/02/598791.pdf.

The proposed consent decree modification lodged with the Court on January 16, 2021, provides for Sherwin-Williams' performance of the remedy selected in the SW/HC OU2 ROD in accordance with the decree and the statement of work attached to the proposed consent decree modification.

The publication of this notice opens a period for public comment on the consent decree modification. Comments should be addressed to the Assistant Attorney General, Environment and Natural Resources Division, and should refer to United States v. The Sherwin-Williams Company, D.J. Ref. No. 90-11-3-09023/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree modification, with attached statement of work, may be examined and downloaded at this Justice Department website: https://www.justice.gov/enrd/consent-decrees. We will provide a paper copy of the consent decree modification, with attached statement of work, upon written request and payment of reproduction costs. Please mail your request and payment to: Consent Decree Library, U.S. DOJ—ENRD, P.O. Box 7611, Washington, DC 20044-7611.

Please enclose a check or money order for $8.50 (25 cents per page reproduction cost), payable to the United States Treasury.

Henry S. Friedman,
Assistant Section Chief, Environmental Enforcement Section, Environment & Natural Resources Division.

[FR Doc. 2021-01605 Filed 1-27-21; 8:45 am]

BILLING CODE 4410-15-P